DEPARTMENT OF ENERGY

Federal Energy Regulatory Commission

[Docket No. RP02-103-000]

Panhandle Eastern Pipe Line Company; Notice of Tariff Filing

December 6, 2001.

Take notice that on November 30, 2001, Panhandle Eastern Pipe Line Company (Panhandle) tendered for filing as part of its FERC Gas Tariff, First Revised Volume No. 1, the following tariff sheets, to be effective January 1, 2002:

Sixty-Fourth Revised Sheet No. 4

Sixty-Fourth Revised Sheet No. 5

Sixty-Fourth Revised Sheet No. 6

Sixty-Seventh Revised Sheet No. 7

Sixty-Seventh Revised Sheet No. 8

Forty-Third Revised Sheet No. 15

Eighth Revised Sheet No. 17

Panhandle states that the purpose of this filing is to revise the Gas Research Institute (GRI) surcharges to be effective January 1, 2002 in compliance with the January 21, 1998, Stipulation and Agreement Concerning GRI Funding (Settlement Agreement) approved by the Commission in Gas Research Institute, 83 FERC ¶ 61,093 (1998), order on reh'g, 83 FERC ¶ 61,331 (1998) and the Commission's Letter Order dated September 19, 2001 in Docket No. RP01-434-000.

Specifically, Panhandle's filing complies with the surcharges set forth in Appendix A to the Settlement Agreement, as adjusted upward by ten percent consistent with the stated intention of Settlement Agreement Article II, Section 1.0 and the Commission's September 19, 2001 Letter Order, as follows: (1) A reservation surcharge of 6.6¢ per dekatherm per month will be charged on non-discounted firm high load factor customers, i.e., greater than 50% load factor; (2) a reservation surcharge of 4.07¢ per dekatherm per month will be charged on non-discounted firm low load factor customers, i.e., less than or equal to 50% load factor; (3) a GRI volumetric surcharge of 0.55¢ per dekatherm surcharge will be charged on all non-discounted firm commodity and interruptible transportation services; and (4) a 0.88¢ per dekatherm surcharge will be charged on all non-discounted firm commodity units delivered to customers qualifying for service under Panhandle's Rate Schedule SCT.

Panhandle states that copies of this filing are being served on all affected customers and applicable state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30686 Filed 12-11-01; 8:45 am]

BILLING CODE 6717-01-P